DEPARTMENT OF THE INTERIOR

Bureau of Land Management

[NV-050-5853-ES; N-63293, N-76478, and N-76479; 7-08807]

Notice of Realty Action: Recreation and Public Purposes Act Classification of Public Lands in Clark County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 37.5 acres of public land in Clark County, Nevada. The City of Las Vegas (City) proposes to use the land as a Fire Station/Metro Police Substation and two public parks.

DATES: Interested parties may submit comments regarding the proposed lease/conveyance or classification of the lands until June 4, 2007.

ADDRESSES: Send written comments to the Las Vegas Field Manager, BLM, Las Vegas Field Office, 4701 N. Torrey Pines Drive, Las Vegas, Nevada 89130-2301.

FOR FURTHER INFORMATION CONTACT: Rebecca L. Rury, Realty Specialist, Las Vegas Field Office, (702) 515-5087.

SUPPLEMENTARY INFORMATION: The following described public lands in Las Vegas, Clark County, Nevada have been examined and found suitable for classification for lease and subsequent conveyance under the provisions of the R&PP Act, as amended (43 U.S.C. 869 et seq.) and is hereby classified accordingly.

The City of Las Vegas proposes to use 7.5 acres of land for a Fire Station with a Metro Police Substation (N-63293). The other 30 acres will consist of two 15-acre public parks (N-76478 and N-76479). These facilities will serve citizens in the northwest sector of the City, where rapid growth has occurred.

N-63293:

Mount Diablo Meridian

T. 19 S., R. 59 E.

Sec. 13, NW¼NE¼NE¼NE¼, S½NE¼NE¼NE¼.

The area described contains 7.5 acres, more or less, in Clark County.

N-76478:

Mount Diablo Meridian

T. 19 S., R. 59 E.

Sec. 24, W½SW¼SE¼NW¼, NW¼SE¼NW¼.

The area described contains 15 acres, more or less, in Clark County.

N-76479:

Mount Diablo Meridian

T. 19 S., R. 59 E.

Sec. 13, E½NW¼NW¼SE¼, NE¼NW¼SE¼.

The area described contains 15 acres, more or less, in Clark County.

The land is not required for any Federal purpose. The proposed actions are in conformance with the Las Vegas Resource Management Plan approved on October 5, 1998. The Plans of Development have been reviewed and it is determined the proposed action conforms with land use plan decision LD-1 established in accordance with Section 202 of FLPMA, as amended (43 U.S.C. 1713). The lease/conveyance, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine, and remove such deposits from the lands under applicable law and such regulations as the Secretary of the Interior may prescribe, including all necessary access and exit rights.

The lease/conveyances for N-63293, N-76478 and N-76479 will also be subject to:

1. Valid existing rights;

2. Right-of-Way N-78524 for roadway, sanitary sewer and drainage purposes granted to City of Las Vegas, its successors or assigns, pursuant to the Act of October 21, 1976 (43 U.S.C. 1761);

3. Right-of-way N-78783 for water pipeline purposes granted to Las Vegas Valley Water District, its successors or assigns, pursuant to the Act of October 21, 1976 (43 U.S.C. 1761);

4. Right-of-way N-80137 for underground fiber optic cable purposes granted to Cox Communications, its successors or assigns, pursuant to the Act of October 21, 1976 (43 U.S.C. 1761);

5. Right-of-way N-80169 for fiber optic cable purposes granted to Central Telephone Company, its successors or assigns, pursuant to the Act of October 21, 1976 (43 U.S.C. 1761);

6. Right-of-way N-80658 for gas pipeline purposes granted to Southwest Gas Corporation, its successors or assigns, pursuant to the Act of February 25, 1920 (30 U.S.C. 185 Section 28);

7. Right-of-way N-81399 for power line purposes granted to Nevada Power Company, its successors or assigns, pursuant to the Act of October 21, 1976 (43 U.S.C. 1761).

Classification Comments: Interested parties may submit comments involving the suitability of the land for a Fire Station with a Metro Police Substation and two public parks. Comments on the classification are restricted to whether the lands are physically suited for the proposal, whether the use will maximize the future use or uses of the land, whether the use is consistent with local planning and zoning, or if the use is consistent with State and Federal programs. The classification of the land described in this Notice will become effective 60 days from the date of publication of this notice in the Federal Register. The lands will not be offered for lease/conveyance until after the classification becomes effective.

Application Comments: Interested parties may submit comments regarding the specific use proposed in the applications and Plans of Development, whether the BLM followed proper administrative procedures in reaching the decision, or any other factor not directly related to the suitability of the land for a Fire Station with a Metro Police Substation and two public parks. Any adverse comments will be reviewed by the BLM Nevada State Director who may sustain, vacate, or modify this realty action. In the absence of any adverse comments, this realty action will become the final determination of the Department of the Interior.

Detailed information concerning this action is available for review at the BLM Las Vegas Field Office at the address above. The Field Manager, BLM Las Vegas Field Office, will review the comments of all interested parties concerning the lease/conveyance. To be considered, comments must be received at the BLM Las Vegas Field Office on or before the date stated above in this notice for that purpose. Before including your address, phone number, e-mail address, or other personal identifying information in your comment, be advised that your entire comment—including your personal identifying information—may be made publicly available at any time. While you can ask us in your comment to withhold from public review your personal identifying information, we cannot guarantee that we will be able to do so. Only written comments submitted by postal service or overnight mail to the Field Manager, BLM Las Vegas Field Office will be considered properly filed. E-mail, facsimile or telephone comments will not be considered properly filed.

In the absence of any adverse comments, the decision will become effective on June 19, 2007. The lands will not be offered for lease/conveyance until after the decision becomes effective.

Authority: 43 CFR 2741.5.

Dated: March 21, 2007.
Philip Rhinehart,
Acting Assistant Field Manager, Non-Renewable Resources, Las Vegas, NV.

[FR Doc. E7-7556 Filed 4-19-07; 8:45 am]

BILLING CODE 4310-HC-P